Executive Order 14342 of August 25, 2025

Taking Steps To End Cashless Bail To Protect Americans

By the authority vested in me as President by the Constitution and the laws of the United States of America, it is hereby ordered:

Section 1. Purpose and Policy. Maintaining order and public safety requires incarcerating individuals whose pending criminal charges or criminal history demonstrate a clear ongoing risk to society. When these individuals are released without bail under city or State policies, they are permitted—even encouraged—to further endanger law-abiding, hard-working Americans because they know our laws will not be enforced. Our great law enforcement officers risk their lives to arrest potentially violent criminals, only to be forced to arrest the same individuals, sometimes for the same crimes, while they await trial on the previous charges. This is a waste of public resources and a threat to public safety.

As President, I will require commonsense policies that protect Americans' safety and well-being by incarcerating individuals who are known threats. It is therefore the policy of my Administration that Federal policies and resources should not be used to support jurisdictions with cashless bail policies, to the maximum extent permitted by law.

Sec. 2. Consequences for Cashless Bail Jurisdictions. (a) Within 30 days of the date of this order, the Attorney General shall submit to the President, through the Assistant to the President for Homeland Security, a list of States and local jurisdictions that have, in the Attorney General's opinion, substantially eliminated cash bail as a potential condition of pretrial release from custody for crimes that pose a clear threat to public safety and order, including offenses involving violent, sexual, or indecent acts, or burglary, looting, or vandalism. The Attorney General shall update this list as necessary.

(b) The head of each executive department and agency, in coordination with the Director of the Office of Management and Budget, shall identify Federal funds, including grants and contracts, currently provided to cashless bail jurisdictions identified pursuant to subsection (a) of this section that may be suspended or terminated, as appropriate and consistent with applicable law.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

August 25, 2025.

[FR Doc. 2025-16618

Filed 8-27-25; 11:15 am]

Billing code 4410-CW-P